DEPARTMENT OF HEALTH AND HUMAN SERVICES

Office of the Secretary

[Document Identifier: HHS-OS-21544-60D]

Agency Information Collection Activities; Proposed Collection; Public Comment Request

AGENCY: Office of the Assistant Secretary for Health, Office of Adolescent Health, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before May 12, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-21544-60D for reference.

Information Collection Request Title: Cost Study of Evidence-Based Teen Pregnancy Prevention Programs.

Abstract: The Office of Adolescent Health (OAH), U.S. Department of Health and Human Services (HHS) is requesting approval by OMB on a new collection. The proposed study will provide information on the cost and economic impact of selected evidence-based teen pregnancy prevention programs. This proposed information collection activity includes collecting information on (a) program costs and (b) program impacts from a subset of OAH TPP Program grantees.

Need and Proposed Use of the Information: A cost tool will collect comprehensive information on the cost of implementing of each selected program. An implementation tool will collect and summarize information on the characteristics of participating grantees. A staff time use survey will collect information on how program staff allocate their time across program activities. An economic evaluation form will collect information on program impact findings needed to assess the cost-effectiveness and benefit-cost of selected programs.

Likely Respondents: A subset of up to 30 OAH TPP Program grantees will be asked to participate in the cost analysis. Of these 30 grantees, up to 15 will also be asked to participate in the economic evaluation. Study respondents will include the grant administrator or fiscal agent, the grantee's evaluator, and program staff.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information.

The total annual burden hours estimated for this ICR are summarized in the table below.

Total Estimated Annualized Burden—Hours
Form name | Number of respondents | Number of responses per respondent | Average burden per response (in hours) | Total burden hours
Cost Tool | 30 | 1 | 8 | 240
Implementation Tool | 30 | 1 | 1 | 30
Staff Time Use Survey | 600 | 2 | 20/60 | 400
Economic Evaluation Form | 15 | 1 | 3 | 45
Total |  |  |  | 715

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Deputy, Information Collection Clearance Officer.

[FR Doc. 2014-05286 Filed 3-11-14; 8:45 am]

BILLING CODE 4150-30-P